DEPARTMENT OF DEFENSE

Department of the Air Force

Record of Decision for the Environmental Impact Statement T-7A Recapitalization at Joint Base San Antonio-Randolph, TX

AGENCY: Department of the Air Force, Department of Defense.

ACTION: Notice of Availability of Record of Decision.

SUMMARY: On June 21, 2022, the Department of the Air Force (DAF) signed the Record of Decision (ROD) for the T-7A Recapitalization at Joint Base San Antonio (JBSA)-Randolph, TX Environmental Impact Statement.

ADDRESSES: Mr. Nolan Swick, AFCEC/CZN, 2261 Hughes Avenue, Suite 155, JBSA-Lackland Air Force Base, Texas 78236-9853, (210) 925-3392; nolan.swick@us.af.mil.

SUPPLEMENTARY INFORMATION: The DAF has decided to replace all T-38C aircraft at JBSA-Randolph with up to 72 T-7A aircraft and continue flying training programs at JBSA-Randolph. The DAF decision documented in the ROD was based on matters discussed in the Final Environmental Impact Statement, inputs from the public and regulatory agencies, and other relevant factors. The Final Environmental Impact Statement was made available to the public on March 4, 2022 through a Notice of Availability in the Federal Register (Volume 87, Number 43, Page 12450) with a waiting period that ended on April 4, 2022.

Authority: This Notice of Availability is published pursuant to the regulations (40 CFR part 1506.6) implementing the provisions of the National Environmental Policy Act (42 U.S.C. 4321, et seq.) and the Air Force's Environmental Impact Analysis Process (32 CFR parts 989.21(b) and 989.24(b)(7)).

Adriane Paris,
Air Force Federal Register Liaison Officer.

[FR Doc. 2022-14243 Filed 7-1-22; 8:45 am]

BILLING CODE 5001-10-P